DEPARTMENT OF AGRICULTURE

Commodity Credit Corporation

7 CFR Part 1493

RIN 0551-AA74

CCC Export Credit Guarantee (GSM-102) Program

AGENCY: Foreign Agricultural Service and Commodity Credit Corporation, USDA.

ACTION: Proposed rule; extension of comment period.

SUMMARY: The Commodity Credit Corporation (CCC) published a proposed rule on July 27, 2011 (76 FR 44836-44855), revising and amending the regulations that administer the Export Credit Guarantee (GSM-102) Program. Changes in this proposed rule incorporate program operational changes and information from press releases and notices to participants that have been implemented since the publication of the current rule, and include other administrative revisions to enhance clarity and program integrity. CCC is extending the comment period for the proposed rule to give the public more time to provide input and recommendations on the proposed rule. The original comment period would have closed on September 26, 2011; CCC is extending the comment period for 30 additional days. With this extension, the public may submit comments through October 26, 2011.

DATES: Comments concerning this proposed rule must be received by October 26, 2011, to be assured consideration.

ADDRESSES: Comments may be submitted by any of the following methods:

• Federal eRulemaking Portal: Go to http://www.regulations.gov. Follow the online instructions to submit comments.

• E-Mail: GSMregs@fas.usda.gov.

• Fax: (202) 720-2495, Attention: “GSM102 Proposed Rule Comments”.

• Hand Delivery, Courier, or U.S. Postal delivery: Amy Slusher, Deputy Director, Credit Programs Division, c/o Public Affairs Division, Foreign Agricultural Service, U.S. Department of Agriculture, 1400 Independence Ave., SW., Stop 1004, Room 5076, Washington, DC 20250-1004.

Comments may be inspected at 1400 Independence Avenue, SW., Washington, DC, between 8 a.m. and 4:30 p.m., Monday through Friday, except holidays. A copy of this proposed rule is available through the Foreign Agricultural Service (FAS) homepage at: http://www.fas.usda.gov/excredits/exp-cred-guar-new.asp.

FOR FURTHER INFORMATION CONTACT: Amy Slusher, Deputy Director, Credit Programs Division; by phone at (202) 720-6211; or by e-mail at: Amy.Slusher@fas.usda.gov.

SUPPLEMENTARY INFORMATION:

Background

On July 27, 2011, CCC published a proposed rule titled “CCC Export Credit Guarantee (GSM-102) Program” in the Federal Register (76 FR 44836-44855). The GSM-102 Program is administered by the Foreign Agricultural Service (FAS) of the U.S. Department of Agriculture (USDA) on behalf of CCC, pursuant to program regulations codified at 7 CFR part 1493 and through the issuance of “Program Announcements” and “Notices to Participants” that are consistent with this program regulation. The current regulations became effective on November 18, 1994. Since that time, CCC has implemented numerous operational changes to improve the efficiency of the program, including revised program controls to improve program quality, reduce costs, and protect against waste and fraud. Also since that time, agricultural trade and finance practices have evolved. This proposed rule is intended to reflect these changes and to enhance the overall clarity and integrity of the program. In addition, the Food, Conservation, and Energy Act of 2008 repealed the authority to operate the GSM-103 Program, and this change is reflected in the proposed rule.

CCC has received comments from a number of organizations requesting that the comment period for the proposed rule be extended to allow industry and other affected parties, both in the United States and abroad, to carefully analyze changes in the proposed rule and provide thorough comments. In response to this request, CCC is extending the comment period by 30 days to give the public more time to provide input and to make recommendations on the proposed rule. With this extension, the public may submit comments through October 26, 2011.

Dated: September 9, 2011.
Suzanne E. Heinen,
Acting Vice President, Commodity Credit Corporation, and Acting Administrator, Foreign Agricultural Service.

[FR Doc. 2011-23962 Filed 9-16-11; 8:45 am]

BILLING CODE 3410-10-P